DEPARTMENT OF LABOR

Mine Safety and Health Administration

Proposed Information Collection Request; Submitted for Public Comment and Recommendations; Emergency Evacuations and Mine Emergency Evaluation and Fire-Fighting Program of Instruction

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506 (c)(2)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to the 30 CFR Sections 75.1501—Emergency Evacuations and 75.1502—Mine Emergency Evacuation and Fire-Fighting Program of Instruction.

DATES: Submit comments on or before April 25, 2003.

ADDRESSES: Send comments to Jane Tarr, Management Analyst, Administration and Management, 1100 Wilson Boulevard, Room 2171, Arlington, VA 22209-3939. Commenters are encouraged to send their comments on computer disk, or via Internet E-mail to Tarr-Jane@Msha.Gov. Ms. Tarr can be reached at (202) 693-9824 (voice), or (202) 693-9801 (facsimile).

FOR FURTHER INFORMATION CONTACT: Jane Tarr, Management Analyst, Records Management Group, U.S. Department of Labor, Mine Safety and Health Administration, Room 2171, 1100 Wilson Boulevard, Arlington, VA 22209-3939. Ms. Tarr can be reached at Tarr-Jane@Msha.Gov (Internet E-mail), (202) 693-9824 (voice), or (202) 693-9801 (facsimile).

SUPPLEMENTARY INFORMATION:

I. Background

In response to the recent accidents of September 2001 at the Jim Walter Resources No. 5 Mine and of July 2000 at the Willow Creek Mine, MSHA has determined that new safety standards are necessary to further protect miners when a mine emergency presenting an imminent danger to miners due to fire, explosion, or gas or water inundation occurs which requires an evacuation of miners. Miners and mine operators must be able to rapidly and safely respond to emergency situations created by fire, explosion, or gas or water inundation hazards, and initiate an immediate mine evacuation when necessary to protect miners from the grave dangers of remaining underground or re-entering affected areas when hazards and conditions arise that endanger safety. A rapid and planned evacuation of all miners, who are knowledgeable about the mine's plan for mine emergencies, is essential to survival, and is one of the last safeguards that would allow miners to exit from the mine under extremely adverse conditions. The current lack of such knowledge, and demonstrated inability to quickly initiate and properly conduct a mine evacuation, presents a grave danger to miners who work in underground coal mines when a mine fire, explosion, or gas or water inundation emergency occurs.

II. Desired Focus of Comments

MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the For Further Information Contact section of this notice, or viewed on the Internet by accessing the MSHA home page (http://www.msha.gov) and then choosing “Statutory and Regulatory Information” and “Federal Register Documents.”

III. Current Actions

Section 75.1501(c), required the mine operator to train all miners about the requirements of this section and the identity of the responsible person(s) designated by the operator for the work-shift. The operator also is required to instruct miners of any change in the identity of the responsible person before the start of their work-shift. Section 75.1502 broadens existing section 75.1101-23 by including all mine emergencies created as a result of a fire, an explosion, or gas or water inundation. It requires revisions to existing fire-fighting and evacuation plans to address these emergencies, require training of miners regarding the mine emergency evacuation fire-fighting plan, and require that mine operators train miners in any revisions to the plan after its submission to MSHA for approval.

Section 75.1502(a) requires the operator to adopt a mine emergency evacuation and fire-fighting program. The operator is required to train all miners in the proper evacuation procedures to be followed in the event of a mine emergency, the location and use of fire-fighting equipment, location of escape-ways, exits, and routes of travel to the surface. All miners would be trained on any revisions made to the program of instruction after it has been approved by MSHA to ensure that miners are kept aware of any changes made to the mine emergency evacuation and fire-fighting plan after they have received initial training.

Type of Review: Extension.

Agency: Mine Safety and Health Administration.

Title: Emergency Evacuations and Mine Emergency Evaluation and Fire-Fighting Program of Instruction.

OMB Number: 1219-0137.

Frequency: On Occasion.

Affected Public: Business or other for-profit.

Respondents: 664.

Estimated Time Per Respondent: 7.55 minutes.

Total Burden Hours: 5,010 hours.

Total Burden Cost (capital/startup): $0.

Total Burden Cost (operating/maintaining): $0.

Comments submitted in response to this notice will be summarized and/or included in the request for Office of Management and Budget approval of the information collection request; they will also become a matter of public record.

Dated at Arlington, Virginia, this 14th day of February, 2003.
David L. Meyer,
Director, Office of Administration and Management.

[FR Doc. 03-4268 Filed 2-21-03; 8:45 am]

BILLING CODE 4510-43-P